DEPARTMENT OF TRANSPORTATION

Federal Aviation Administration

[Summary Notice No. PE-2005-50]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on August 24, 2005.
Anthony F. Fazio,
Director, Office of Rulemaking.

Disposition of Petitions

Docket No.: FAA-2004-19423.

Petitioner: Fresh Air, Inc.

Sections of 14 CFR Affected: 14 CFR 125.224.

Description of Relief Sought/Disposition: To permit the Fresh Air, Inc., to operate a piston-powered large-aircraft, weighing more than 33,000 pounds maximum gross takeoff weight, without having a collision avoidance system installed in the aircraft.

Denial, 05/02/2005, Exemption No. 8550.

Docket No.: FAA-2005-20651.

Petitioner: Aero Union Corporation.

Sections of 14 CFR Affected: 14 CFR 91.611.

Description of Relief Sought/Disposition: To permit Aero Union Corporation to ferry its eight Lockheed P-3 A/B (P-3) aircraft with one engine inoperative to a maintenance facility for the purpose of repairs.

Grant, 05/02/2005, Exemption No. 8551.

Docket No.: FAA-2003-15446.

Petitioner: JetBlue Airways Corporation.

Sections of 14 CFR Affected: 14 CFR 121.434(c)(1)(ii).

Description of Relief Sought/Disposition: To permit JetBlue Airways Corporation to substitute a qualified and authorized check airman or aircrew program designee for a Federal Aviation Administration inspector to observe a qualifying pilot in command who is completing a takeoff and a landing.

Grant, 05/04/2005, Exemption No. 8099A.

Docket No.: FAA-2001-9791.

Petitioner: NockAir Helicopter, Inc.

Sections of 14 CFR Affected: 14 CFR 133.43(a) and (b).

Description of Relief Sought/Disposition: To permit NockAir Helicopter, Inc., to use its helicopters to perform aerial trapeze acts without using an approved external-load attachment or quick-release device for carrying a person on a trapeze bar.

Denial, 05/05/2005, Exemption No. 6685D.

Docket No.: FAA-2003-16196.

Petitioner: Alaska Air Carriers Association.

Sections of 14 CFR Affected: 14 CFR 43.3(g), 121.709(b)(3), and 135.443(b)(3).

Description of Relief Sought/Disposition: To permit Alaska Air Carriers Association (AACA) and its certificated and appropriately trained pilots employed by an AACA-member airline to remove and reinstall passenger seats in aircraft type certificate for 10 to 19 passengers. The applicable aircraft are those operated by an AACA-member airline operation conducted under 14 CFR part 121 or 14 CFR part 135. The exemption also permits those pilots to make required logbook entries.

Grant, 05/05/2005, Exemption No. 8176A.

Docket No.: FAA-2003-15744.

Petitioner: Arctic Air Service.

Sections of 14 CFR Affected: 14 CFR 133.45(e)(1).

Description of Relief Sought/Disposition: To permit Arctic Air Service to conduct Class D rotorcraft-load combination operations with an Agusta A 109E helicopter certificated in the normal category under 14 CFR part 27.

Grant, 5/05/2005, Exemption No. 8116A.

Docket No.: FAA-2005-20887.

Petitioner: Air Evac EMS, Inc.

Sections of 14 CFR Affected: 14 CFR 135.143(c)(2).

Description of Relief Sought/Disposition: To permit Air Evac EMS, Inc., to operate certain aircraft under part 135 with a TSO-C112 (Mode S) transponder installed in the aircraft.

Grant, 5/05/2005, Exemption No. 8552.

Docket No.: FAA-2005-21035.

Petitioner: Pelican Air, LLC.

Sections of 14 CFR Affected: 14 CFR 135.143(c)(2).

Description of Relief Sought/Disposition: To permit Pelican Air, LLC, to operate certain aircraft under part 135 without a TSO-C112 (Mode S) transponder installed in the aircraft.

Grant, 45/05/2005, Exemption No. 8553.

Docket No.: FAA-2001-8861.

Petitioner: MCI Worldcom Management Co., Inc.

Sections of 14 CFR Affected: 14 CFR 96.611.

Description of Relief Sought/Disposition: To permit MCI Worldcom Management Co., Inc., to conduct ferry flights with one engine inoperative in MCI's Falcon Trijet airplane, Model No. 900, without obtaining special flight permit for each flight.

Grant, 5/05/2005, Exemption No. 5332G.

Docket No.: FAA-2003-15970.

Petitioner: Montana Aircraft, Inc.

Sections of 14 CFR Affected: 14 CFR 135.143(c)(2).

Description of Relief Sought/Disposition: To permit Montana Aircraft, Inc., to operate certain aircraft under part 135 without a TSO-C112 (Mode S) transponder installed in the aircraft.

Grant, 5/10/2005, Exemption No. 8120E.

Docket No.: FAA-2005-20760.

Petitioner: Sky Unlimited.

Sections of 14 CFR Affected: 14 CFR 91.223(b).

Description of Relief Sought/Disposition: To permit Sky Unlimited, to operate its Beech 1900 aircraft after March 29, 2005, without being equipped with an approved terrain awareness and warning system that meets the requirements for Class B equipment I Technical Standard Order (TSO)-C151.

Denial, 5/12/2005, Exemption No. 8556.

Docket No.: FAA-2005-21106.

Petitioner: Mr. James G. Brendel.

Sections of 14 CFR Affected: 14 CFR 91.109(a).

Description of Relief Sought/Disposition: To permit Mr. James G. Brendel, to conduct certain flight training in Beechcraft Bonanza/Debonair type aircraft that are equipped with a functioning throw-over control wheel.

Grant, 5/12/2005, Exemption No. 8557.

Docket No.: FAA-2002-13311.

Petitioner: The Boeing Company.

Sections of 14 CFR Affected: 14 CFR 21.325(b)(3).

Description of Relief Sought/Disposition: To permit Boeing's Organizational Designated Airworthiness Representatives to issue export airworthiness approvals for Class II and Class III products manufactured by Boeing-approved suppliers in 19 foreign countries and Taiwan.

Grant, 5/12/2005, Exemption No. 6860E.

Docket No.: FAA-2002-11840.

Petitioner: Davis Aerospace High School.

Sections of 14 CFR Affected: 14 CFR 135.251, 135.255, and 135.353, and appendices I and J.

Description of Relief Sought/Disposition: To permit Davis Aerospace High School and Black Pilots Association, to conduct local sightseeing flights at the Detroit City Airport, Detroit, Michigan, on or about May 15, 2005, for compensation or hire, without complying with certain anti-drug and alcohol misuse prevention requirements of part 135.

Grant, 5/12/2005, Exemption No. 8554.

Docket No.: FAA-2001-9097.

Petitioner: Federal Express Corporation.

Sections of 14 CFR Affected: 14 CFR 135.143(c)(2).

Description of Relief Sought/Disposition: To permit Federal Express Corporation, to operate certain aircraft under part 135 without a TSO-C112 (Mode S) transponder installed in the aircraft.

Grant, 5/16/2005, Exemption No. 5711H.

Docket No.: FAA-2005-20935.

Petitioner: Pomona Valley Pilots Association.

Sections of 14 CFR Affected: 14 CFR 135.251, 135.255, and 135.353, and appendices I and J.

Description of Relief Sought/Disposition: To permit Pomona Valley Pilots Association, to conduct local sightseeing flights for the Pomona Valley Air Fair at the Cable Airport, Upland, California, on July 9 and 10, 2005, for compensation or hire to raise money for scholarship funds for local colleges, without complying with certain anti-drug and alcohol misuse prevention requirements of part 135.

Grant, 5/16/2005, Exemption No. 8555.

Docket No.: FAA-2001-9282.

Petitioner: Air Transport Association of America, Inc.

Sections of 14 CFR Affected: 14 CFR 63.39(b)(1) and (2) and 121.425(a)(2)(i) and (ii).

Description of Relief Sought/Disposition: To permit Air Transport Association of America, Inc., member airlines and other qualifying part 121certificate holders conducting part 121-approved flight engineer training programs to meet the certification requirements of § 121.425(a)(2)(i) and (ii) in a single flight check. The exemption also allows applicants in training for the flight check to take (1) the airplane preflight inspection portion of that flight check using an advanced pictorial means instead of an airplane, and (2) the normal procedure portion of that flight check in an approved flight simulation device. Furthermore, the exemption allows qualifying persons conducting part 63 flight engineer courses and all part 142 training center certificate holders conducting flight engineer training courses in accordance with part 63 to allow applicants who are training in preparation for the flight engineer practical test to take the normal procedures portion of that test in an approved flight simulation device.

Grant, 5/20/2005, Exemption No. 4901I.

Docket No.: FAA-2001-9379.

Petitioner: Air Transport Association of America, Inc.

Sections of 14 CFR Affected: 14 CFR 121.613, 121.619(a), and 121.625.

Description of Relief Sought/Disposition: To permit Air transport Association, Inc., member airlines and other similarly situated part 121 operators to continue to dispatch airplanes under instrument flight rules when conditional language in a one-time increment of the weather forecast states that the weather at the destination, alternate airport, or both airports could be below the authorized weather minimums when other time increments of the weather forecast state that weather conditions will be at or above the authorized weather minimums.

Grant, 5/26/05, Exemption No. 3585O.

Docket No.: FAA-2005-21194.

Petitioner: Black Hills Aerial Adventures, Inc.

Sections of 14 CFR Affected: 14 CFR 135.143(c)(2).

Description of Relief Sought/Disposition: To permit Black Hills Aerial Adventures Inc., to operate certain aircraft under part 135 without a TSO-C112 (Mode S) transponder installed in the aircraft.

Grant, 5/26/2005, Exemption No. 8559.

Docket No.: FAA-2003-14242.

Petitioner: World Airways, Inc.

Sections of 14 CFR Affected: 14 CFR 121.434(c)(1)(ii).

Description of Relief Sought/Disposition: To permit World Airways, Inc., to substitute a qualified and authorized check airman or aircrew program designee for an Federal Aviation Administration inspector to observe a qualifying pilot in command and who is completing initial or upgrade training specified in § 121.424 during at least on flight leg that include a takeoff and a landing.

Grant, 5/27/2005, Exemption No. 8058A.

[FR Doc. 05-17216 Filed 8-29-05; 8:45 am]

BILLING CODE 4910-13-P